INTERNATIONAL TRADE COMMISSION

[USITC SE-09-004]

Government in the Sunshine Act Meeting Notice

Agency Holding the Meeting: United States International Trade Commission.

Time and Date: February 19, 2009 at 11 a.m.

Place: Room 101, 500 E Street SW., Washington, DC 20436, Telephone: (202) 205-2000.

Status: Open to the public.

Matters to be Considered:

1. Agenda for future meetings: none.

2. Minutes.

3. Ratification List.

4. Inv. No. 731-TA-1022 (Review) (Refined Brown Aluminum Oxide from China)—briefing and vote. (The Commission is currently scheduled to transmit its determination and Commissioners' opinions to the Secretary of Commerce on or before March 2, 2009.)

5. Inv. Nos. 701-TA-454 and 731-TA-1144 (Final) (Welded Stainless Steel Pressure Pipe from China)—briefing and vote. (The Commission is currently schedule to transmit its determinations and Commissioners' opinions to the Secretary of Commerce on or before March 2, 2009.)

6. Outstanding action jackets: none.

In accordance with Commission policy, subject matter listed above, not disposed of at the scheduled meeting, may be carried over to the agenda of the following meeting.

By order of the Commission.
Issued: February 5, 2009.
William R. Bishop,
Hearings and Meetings Coordinator.

[FR Doc. E9-2847 Filed 2-10-09; 8:45 am]

BILLING CODE 7020-02-P